DEPARTMENT OF ENERGY

Federal Energy Regulatory Commission

Combined Notice of Filings

Take notice that the Commission has received the following Natural Gas Pipeline Rate and Refund Report filings:

Docket Numbers: RP19-1291-000.

Applicants: Paiute Pipeline Company.

Description: Report Filing: Refund Report.

Filed Date: 10/13/20.

Accession Number: 20201013-5186.

Comments Due: 5 p.m. ET 10/26/20.

Docket Numbers: RP21-66-000.

Applicants: Garden Banks Gas Pipeline, LLC.

Description: § 4(d) Rate Filing: Garden Banks LINK URL Conversion Filing to be effective 11/20/2020.

Filed Date: 10/20/20.

Accession Number: 20201020-5008.

Comments Due: 5 p.m. ET 11/2/20.

Docket Numbers: RP21-67-000.

Applicants: Bobcat Gas Storage.

Description: § 4(d) Rate Filing: Bobcat LINK URL Conversion Filing to be effective 11/15/2020.

Filed Date: 10/20/20.

Accession Number: 20201020-5011.

Comments Due: 5 p.m. ET 11/2/20.

Docket Numbers: RP21-68-000.

Applicants: Big Sandy Pipeline, LLC.

Description: § 4(d) Rate Filing: Big Sandy LINK URL Conversion Filing to be effective 11/23/2020.

Filed Date: 10/20/20.

Accession Number: 20201020-5015.

Comments Due: 5 p.m. ET 11/2/20.

Docket Numbers: RP21-69-000.

Applicants: Midcontinent Express Pipeline LLC.

Description: § 4(d) Rate Filing: Fuel Tracker Filing 10/20/20 to be effective 12/1/2020.

Filed Date: 10/20/20.

Accession Number: 20201020-5017.

Comments Due: 5 p.m. ET 11/2/20.

Docket Numbers: RP21-70-000.

Applicants: Florida Gas Transmission Company, LLC.

Description: § 4(d) Rate Filing: Housekeeping Filing on 10-20-20 to be effective 11/19/2020.

Filed Date: 10/20/20.

Accession Number: 20201020-5032.

Comments Due: 5 p.m. ET 11/2/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2020.
Kimberly D. Bose,
Secretary.

[FR Doc. 2020-23730 Filed 10-26-20; 8:45 am]

BILLING CODE 6717-01-P